DEPARTMENT OF COMMERCE

National Oceanic and Atmospheric Administration

[RTID 0648-XB493]

Membership of the National Oceanic and Atmospheric Administration Performance Review Board

AGENCY: National Oceanic and Atmospheric Administration (NOAA), Department of Commerce (DOC).

ACTION: Notice of membership of the NOAA Performance Review Board.

SUMMARY: NOAA announces the appointment of members who will serve on the NOAA Performance Review Board (PRB). The NOAA PRB is responsible for reviewing performance appraisals and ratings of Senior Executive Service (SES), Senior Level (SL), and Scientific and Professional (ST) members and making written recommendations to the appointing authority on retention and compensation matters, including performance-based pay adjustments, awarding of bonuses, and reviewing recommendations for potential Presidential Rank Award nominees. The appointment of members to the NOAA PRB will be for a period of 2 years.

DATES: The effective date of service of the ten appointees to the NOAA Performance Review Board is October 27-29, 2021.

FOR FURTHER INFORMATION CONTACT: Mr. Charles A. McLeod, Human Resources Specialist, Executive Resources Division, Office of Human Capital Services, NOAA, 1315 East-West Highway, Silver Spring, Maryland 20910, (301) 628-1883.

SUPPLEMENTARY INFORMATION: The names and positions of the members for the 2021 NOAA PRB are set forth below:

• Steven Thur, Chair: Director, National Center for Coastal Ocean Services, National Ocean Service, NOAA

• David Michaud, Co-Chair: Director, Office of Central Processing, National Weather Service, NOAA

• James A. St. Pierre: Deputy Director, Information Technology Laboratory, National Institute of Standards and Technology

• Carrie Robinson: Director, Habitat Conservation, National Marine Fisheries Service, NOAA

• Michelle Mainelli-McInerney: Director, Office of Dissemination, National Weather Service, NOAA

• Kelly Mabe: Deputy Director, Acquisition and Grants Office, NOAA

• Walker B. Smith: General Counsel, NOAA

• James Donnellon: Chief Financial Officer-Chief Administrative Officer, National Environmental Satellite, Data, and Information Service, NOAA

• Kevin Kimball: Chief of Staff, National Institute of Standards and Technology

• John Cortinas: Director, Atlantic Oceanographic and Meteorological Laboratory, Office of Oceanic and Atmospheric Research, NOAA

• Juliana Blackwell: Director, Office of National Geodetic Survey, National Ocean Service, NOAA

• Deidre Jones: Chief Administrative Officer, NOAA

• Karen Hyun: Chief of Staff, NOAA

• Mark Seiler, Chief Financial Officer, NOAA

Dated: October 8, 2021.
Richard W. Spinrad,
Under Secretary of Commerce for Oceans and Atmosphere and NOAA Administrator.

[FR Doc. 2021-22491 Filed 10-14-21; 8:45 am]

BILLING CODE 3510-12-P